DEPARTMENT OF THE INTERIOR

National Park Service

Notice of Availability of Approved Director's Orders 53, the Revised Guidance for All Special Park Uses in Units of the National Park Service

AGENCY: National Park Service, Interior.

ACTION: Public notice of approved policy statement.

SUMMARY: The National Park Service (NPS) announces approval of Director's Order #53, the revised guidance document for all special park uses in National Park. This Director's Order was developed to provide policy guidance to NPS managers who deal with requests for special park uses including but not limited to special events, utility rights-of-way including those for telecommunication antenna sites, commercial filming and photography, and other uses. This material will appear as Director's Order #53, Special Park Uses, and be distributed to all NPS units. This document provides policy and procedures to park managers concerning all aspects of requests for special uses in the National Park System, from the initial contact, through review and approval of permits, on-scene protection of resources, and ending with complete recovery and restoration of the site. This document supersedes and replaces the existing NPS-53, as well as Director's Order 53A dealing only with telecommunications, and consists of a concise treatment of the entire subject of special park uses.

SUPPLEMENTARY INFORMATION: On October 12, 1999, the NPS published a notice in the Federal Register (64 FR 55309) that draft Director's Order #53 was available for public review and asking for comment. The NPS received a total of two responses to that notice. These comments and the NPS responses are as follows:

Analysis of Comments

Comment: One respondent objected to use by the NPS of condition number 8 on the existing, pre-printed Special Use Permit form as being inapplicable in most circumstances. Condition number 8 dealt with required compliance with Executive Order 11246, equal opportunity compliance.

Response: The NPS agrees that compliance with Executive Order 11246 should not be required of Special Use Permit holders and is taking steps to remove that section from the pre-printed special use permit form.

Comment: One respondent, commenting on the proposed policy section dealing with Native American Rights, pointed out the existence of additional authorities over and above what the proposed policy section had already cited.

Response: The NPS agrees and has added the additional authorities suggested. The final Director's Order was approved on April 4, 2000. An electronic copy of the approved order may be viewed and downloaded from the internet at URL www.nps.gov/refdesk/DOrders/index.htm, or a copy may be obtained by writing: National Park Service, Ranger Activity Division, 1849 C St. NW, Suite 7408, Washington, DC 20240, or by calling 202-208-4874.

EFFECTIVE DATE: This policy document is in effect from the date of approval by the Director, National Park Service.

FOR FURTHER INFORMATION CONTACT: Dick Young at 757-898-7846, or 757-898-3400, ext. 51.

Dated: April 7, 2000.
Chris Andress,
Chief, Ranger Activities Division.

[FR Doc. 00-9588 Filed 4-17-00; 8:45 am]

BILLING CODE 4310-70-M